DEPARTMENT OF TRANSPORTATION

Federal Aviation Administration

14 CFR Part 39

[Docket No. FAA-2020-0860; Product Identifier 2019-SW-005-AD; Amendment 39-21416; AD 2021-03-13]

RIN 2120-AA64

Airworthiness Directives; Bell Textron Canada Limited (Type Certificate Previously Held by Bell Helicopter Textron Canada Limited) Helicopters

AGENCY: Federal Aviation Administration (FAA), Department of Transportation (DOT).

ACTION: Final rule.

SUMMARY: The FAA is adopting a new airworthiness directive (AD) for certain Bell Textron Canada Limited (type certificate previously held by Bell Helicopter Textron Canada Limited) Model 429 helicopters. This AD was prompted by the introduction of a new life limit for the centrifugal force bearing (CFB). This AD requires determining the accumulated retirement index number (RIN) and removing each affected CFB from service before it accumulates 8,000 total RIN. The FAA is issuing this AD to address the unsafe condition on these products.

DATES: This AD is effective April 1, 2021.

ADDRESSES: For service information identified in this final rule, contact Bell Textron Canada Limited, 12,800 Rue de l'Avenir, Mirabel, Quebec J7J 1R4; telephone 450-437-2862 or 800-363-8023; fax 450-433-0272; or at https://www.bellcustomer.com. You may view this service information at the FAA, Office of the Regional Counsel, Southwest Region, 10101 Hillwood Pkwy., Room 6N-321, Fort Worth, TX 76177. You may view this service information at the FAA, Office of the Regional Counsel, Southwest Region, 10101 Hillwood Pkwy., Room 6N-321, Fort Worth, TX 76177. For information on the availability of this material at the FAA, call 817-222-5110.

Examining the AD Docket

You may examine the AD docket on the internet at https://www.regulations.gov by searching for and locating Docket No. FAA-2020-0860; or in person at Docket Operations between 9 a.m. and 5 p.m., Monday through Friday, except Federal holidays. The AD docket contains this final rule, any comments received, and other information. The street address for Docket Operations is U.S. Department of Transportation, Docket Operations, M-30, West Building Ground Floor, Room W12-140, 1200 New Jersey Avenue SE, Washington, DC 20590.

FOR FURTHER INFORMATION CONTACT: Matt Fuller, AD Program Manager, Continued Operational Safety Branch, Airworthiness Products Section, General Aviation and Rotorcraft Unit, FAA, 10101 Hillwood Pkwy., Fort Worth, TX 76177; telephone 817-222-5110; email matthew.fuller@faa.gov.

SUPPLEMENTARY INFORMATION:

Discussion

Transport Canada Civil Aviation (TCCA), which is the aviation authority for Canada, issued Transport Canada AD CF-2019-03, dated January 31, 2019 (referred to after this as the Mandatory Continuing Airworthiness Information, or the MCAI), to correct an unsafe condition for certain Bell Helicopter Textron Canada Limited (now Bell Textron Canada Limited) Model 429 helicopters. TCCA advises that an airworthiness limitations schedule document introduces a new life limit for CFB part number (P/N) 429-310-003-103, a component that was not previously included. Failure to observe the CFB life limit could result in excessive vibration and loss of control of the helicopter. You may examine the MCAI in the AD docket on the internet at https://www.regulations.gov by searching for and locating Docket No. FAA-2020-0860.

The FAA issued a notice of proposed rulemaking (NPRM) to amend 14 CFR part 39 by adding an AD that would apply to certain Bell Helicopter Textron Canada Limited (now Bell Textron Canada Limited) Model 429 helicopters. The NPRM published in the Federal Register on October 1, 2020 (85 FR 61879). The NPRM was prompted by the introduction of a new life limit for the CFB. The NPRM proposed to require determining the accumulated RIN and removing each affected CFB from service before it accumulates 8,000 total RIN. The FAA is issuing this AD to address a CFB remaining in service beyond its fatigue life. Failure to observe the CFB life limit could result in excessive vibration and loss of control of the helicopter. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Other Related Service Information

Bell Helicopter has issued Bell Model 429 Maintenance Planning Information BHT-429-MPI, Chapter 4, Airworthiness Limitations Schedule, DMC-429-A-04-00-00-00A-288A-A, Issue 1, dated January 10, 2019. This service information describes new maintenance requirements and airworthiness limitations.

Costs of Compliance

The FAA estimates that this AD affects 85 helicopters of U.S. registry. The FAA estimates the following costs to comply with this AD:

Estimated Costs for Required Actions
Labor cost | Parts cost | Cost per helicopter | Cost on U.S. operators
28 work-hours × $85 per hour = $2,380 | $42,576 ($10,644 per bearing × 4 blades) | $44,956 | $3,821,260

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-03-13 Bell Textron Canada Limited (Type Certificate Previously Held by Bell Helicopter Textron Canada Limited): Amendment 39-21416; Docket No. FAA-2020-0860; Product Identifier 2019-SW-005-AD.

(a) Effective Date

This airworthiness directive (AD) is effective April 1, 2021.

(b) Affected ADs

None.

(c) Applicability

This AD applies to Bell Textron Canada Limited (type certificate previously held by Bell Helicopter Textron Canada Limited) Model 429 helicopters, certificated in any category, serial numbers 57001 through 57351 inclusive.

(d) Subject

Joint Aircraft Service Component (JASC) Code 6200, Main rotor system.

(e) Reason

This AD was prompted by the introduction of a new life limit for the centrifugal force bearing (CFB). The FAA is issuing this AD to address a CFB remaining in service beyond its fatigue life. Failure to observe the CFB life limit could result in excessive vibration and loss of control of the helicopter.

(f) Compliance

Comply with this AD within the compliance times specified, unless already done.

(g) Required Actions

For each CFB having part number 429-310-003-103 (the affected CFB): Within 50 hours time-in-service, determine the accumulated retirement index number (RIN). For purposes of this AD, count 1 RIN each time one or both engines are started. If any affected CFB has accumulated 8,000 or more total RIN, before further flight, remove the affected CFB from service. If any affected CFB has accumulated less than 8,000 total RIN, create a component history card or equivalent record indicating a life limit of 8,000 total RIN. Thereafter, continue to count RIN and record the life limit of the affected CFB on its component history card or equivalent record and remove the affected CFB from service before accumulating 8,000 total RIN.

(h) Alternative Methods of Compliance (AMOCs)

(1) The Manager, Strategic Policy Rotorcraft Section, FAA, has the authority to approve AMOCs for this AD, if requested using the procedures found in 14 CFR 39.19. In accordance with 14 CFR 39.19, send your request to your principal inspector or local Flight Standards District Office, as appropriate. If sending information directly to the manager of the Strategic Policy Rotorcraft Section, send it to: Manager, Strategic Policy Rotorcraft Section, FAA, 10101 Hillwood Pkwy., Fort Worth, TX 76177; telephone 817-222-5110. Information may be emailed to: 9-ASW-FTW-AMOC-Requests@faa.gov.

(2) Before using any approved AMOC, notify your appropriate principal inspector, or lacking a principal inspector, the manager of the local flight standards district office/certificate holding district office.

(i) Related Information

(1) The subject of this AD is addressed in Transport Canada AD CF-2019-03, dated January 31, 2019. This Transport Canada AD may be found in the AD docket on the internet at https://www.regulations.gov by searching for and locating Docket No. FAA-2020-0860.

(2) For more information about this AD, contact Matt Fuller, AD Program Manager, Continued Operational Safety Branch, Airworthiness Products Section, General Aviation and Rotorcraft Unit, FAA, 10101 Hillwood Pkwy., Fort Worth, TX 76177; telephone 817-222-5110; email 9-ASW-FTW-AMOC-Requests@faa.gov.

(3) Bell Model 429 Maintenance Planning Information BHT-429-MPI, Chapter 4, Airworthiness Limitations Schedule, DMC-429-A-04-00-00-00A-288A-A, Issue 1, dated January 10, 2019, which is not incorporated by reference, contains additional information about the subject of this AD. For service information identified in this AD that is not incorporated by reference, contact Bell Textron Canada Limited, 12,800 Rue de l'Avenir, Mirabel, Quebec J7J 1R4; telephone (450) 437-2862 or (800) 363-8023; fax (450) 433-0272; or at https://www.bellcustomer.com.

(j) Material Incorporated by Reference

None.

Issued on January 28, 2021.
Gaetano A. Sciortino,
Deputy Director for Strategic Initiatives, Compliance & Airworthiness Division, Aircraft Certification Service.

[FR Doc. 2021-03659 Filed 2-24-21; 8:45 am]

BILLING CODE 4910-13-P